DEPARTMENT OF JUSTICE

Notice of Lodging of Consent Decree Pursuant to the Clean Water Act

Consistent with Departmental policy, 28 CFR 50.7 and 38 FR 19029, notice is hereby given that on January 8, 2001, a proposed Consent Decree in United States v. Hitchiner Manufacturing Company, Inc., Civil Action No. 01-11-JD was lodged with the United States District Court for the District of New Hampshire. The proposed Consent Decree will resolve the United States' claims under Section 309 of the Clean Water Act (“CWA”), 33. U.S.C. 1319, on behalf of the U.S. Environmental Protection Agency (“EPA”) against the defendant relating to the Beacon Street Facility and the Redington Street Facility, both located in Littleton, New Hampshire, and the Milford Facility, located in Milford, New Hampshire. The Complaint alleges that the defendant is liable under Section 309 of the Clean Water Act (“CWA”), 33 U.S.C. 1319.

Pursuant to the Consent Decree, the defendant agrees to pay to the United States a civil penalty of $525,000 and to perform injunctive relief. Further, the defendant agrees to: comply with the federal pretreatment standards for the Metal Finishing Point Source Category set forth at 40 CFR 433.17; comply with the General Pretreatment Regulations for Existing and New Sources of Pollution set forth at 40 CFR part 403, at its Beacon Street and Redington Street Facilities; begin monitoring all process wastewater discharged to the Town of Littleton's publicly owned treatment works from its Beacon Street and Redington Street Facilities; submit monthly reports on the samplying and analysis; and implement the individual Storm Water Pollution Prevention Plans, which were developed for each facility.

The Department of Justice will receive for a period of thirty (30) days from the date of this publication comments relating to the proposed consent decree. Any comments should be addressed to the Assistant Attorney General of the Environment and Natural Resources Division, Department of Justice, P.O. Box 7611, Ben Franklin Station, Washington, DC 20044-7611, and should refer to United States v. Hitchiner Manufacturing Company, Inc., Civil Action No. 01-11-JD, D.J. Ref. 90-5-1-1-06922.

The proposed consent decree may be examined at the Office of the United States Attorney, District of New Hampshire, U.S. Department of Justice, 55 Pleasant Street, Room 352, Concord, New Hampshire, 03301-3904, and at U.S. EPA New England (Region 1), One Congress Street, Suite 1100, Boston, Massachusetts, 02114-2023. A copy of the proposed consent decree may be obtained by mail from the Consent Decree Library, P.O. Box 7611, Washington, DC 20044-7611. In requesting a copy, please enclose a check (there is a 25 cent per page reproduction cost) in the amount of $6.75 payable to the Consent Decree Library.

Bruce Gelber,
Environmental Enforcement Section, Environment and Natural Resources Division.

[FR Doc. 01-1732 Filed 1-19-01; 8:45 am]

BILLING CODE 4410-15-M